DEPARTMENT OF LABOR

Employment and Training Administration

[NAFTA-5574]

VF Corp., LP Lee Jean Division Lebanon, Missouri; Notice of Termination of Investigation

Pursuant to Title V of the North American Free Trade Agreement Implementation Act (Pub. L. 103-182) concerning transitional adjustment assistance, hereinafter called NAFTA-TAA and in accordance with section 250(a), Subchapter D, Chapter 2, Title II, of the Trade Act of 1974, as amended (19 U.S.C. 2331), an investigation was initiated on November 26, 2001, in response to a petition filed on behalf of workers at VF Corporation, LP, Lee Jean Division, Lebanon Equipment Center, Lebanon, Missouri.

This worker group is subject to an ongoing petition investigation, NAFTA-5681. Consequently, further investigation in this case would serve no purpose, and the investigation has been terminated.

Signed at Washington, D.C., this 5th day of February, 2002.
Linda G. Poole,
Certifying Officer, Division of Trade Adjustment Assistance.

[FR Doc. 02-3407 Filed 2-12-02; 8:45 am]

BILLING CODE 4510-30-M